DEPARTMENT OF THE TREASURY

Customs Service

19 CFR Chapter I

Public Meetings: Development of Regulations Regarding Mandatory Advanced Electronic Cargo Information

AGENCY: Customs Service, Department of the Treasury.

ACTION: Notice of meetings.

SUMMARY: This document announces that Customs will hold a series of public meetings in accordance with section 343(a) of the Trade Act of 2002 to assist in the development of proposed regulations to provide for the mandatory collection by Customs of electronic cargo information prior to importation into or exportation from the United States. Separate meetings will be held to address specific importation/exportation issues pertaining to air, sea, truck and rail cargo. The meetings are open to interested members of the trade community.

DATES: The meetings to discuss mandatory advanced collection of electronic information pertaining to cargo are scheduled for the following dates:

• Air cargo: January 14, 2003;

• Truck cargo: January 16, 2003;

• Rail cargo: January 21, 2003; and

• Sea cargo: January 23, 2003.

ADDRESSES: All meetings will be held from 10 a.m. to 3 p.m. in room B1.5-10 of the Ronald Reagan Building located at 1300 Pennsylvania Avenue, NW., Washington, DC. Interested parties must provide Customs with notice of intent to attend a particular meeting at least five business days prior to the scheduled date for that meeting. Notice may be provided to Robyn Day at (202) 927-1440 or via e-mail at traderelations@customs.treas.gov.

FOR FURTHER INFORMATION CONTACT: Robyn Day, U.S. Customs Service, Office of Trade Relations, at (202) 927-1440 or via e-mail at traderelations@customs.treas.gov.

SUPPLEMENTARY INFORMATION:

Background

Section 343(a) of the Trade Act of 2002 (the Act), Public Law 107-210, was signed into law on August 6, 2002. Section 343(a) directs the Secretary of the Treasury to promulgate regulations, within one year of enactment of the Act, to provide for the mandatory collection by Customs of electronic cargo information prior to importation into or exportation from the United States. In the course of developing such regulations, section 343(a) directs the Secretary to solicit comments from and consult with a broad range of parties likely to be affected by the regulations, including importers, exporters, carriers, customs brokers, and freight forwarders.

Section 343(a) requires that the electronic cargo information required under the regulations be reasonably necessary to ensure aviation, maritime and surface transportation safety and security pursuant to those laws enforced and administered by Customs. The requirements to provide particular information generally is to be imposed on the party (e.g. exporter, importer, carrier, broker) most likely to have direct knowledge of the cargo information. Additionally, the statute requires the Secretary to take specific factors into consideration in the development and promulgation of the regulations, including:

• The existence of competitive relationships among parties upon which the information collection requirements will be imposed;

• Differences among cargo carriers that arise from varying modes of transportation, different commercial practices and operational characteristics, and the technological capacity to collect and transmit information;

• The need for interim requirements to reflect the technology that is available at the time of promulgation of the regulations for purposes of transmitting/receiving/analyzing electronic information; and

• The need for transition periods and differences in transition times among modes of transportation.

This notice announces that Customs will hold a series of public meetings to assist in the development of proposed regulations pertaining to the mandatory advanced collection of electronic cargo information, with particular emphasis on the specific issues addressed above. Separate meetings will be held to address specific importation/exportation issues pertaining to air, sea, truck and rail cargo. The meetings are open to interested members of the trade community, however space is limited. The meetings are scheduled for the following dates:

• Air cargo: January 14, 2003;

• Truck cargo: January 16, 2003;

• Rail cargo: January 21, 2003; and

• Sea cargo: January 23, 2003.

All meetings will be held from 10 a.m. to 3 p.m. in room B1.5-10 of the Ronald Reagan Building located at 1300 Pennsylvania Avenue, NW., Washington, DC. Interested parties must provide Customs with notice of their intent to attend a particular meeting at least five business days prior to the scheduled date for that meeting. Notice may be provided to Robyn Day at (202) 927-1440 or via e-mail at traderelations@customs.treas.gov. It is suggested that interested parties provide advance notice of intent to attend a particular meeting, as space is limited and attendance may be restricted accordingly.

It is noted that proposed legislation is currently pending (S. 1214, the Maritime Transportation Security Act) which may amend section 343 of the Trade Act of 2002. Any updates pertaining to either the substance or logistics of the scheduled meetings will be available on the Customs Internet Web site at http://www.customs.treas.gov/rlf.

Dated: November 20, 2002.
Michael Schmitz,
Assistant Commissioner, Office of Regulations and Rulings.

[FR Doc. 02-29931 Filed 11-25-02; 8:45 am]

BILLING CODE 4820-02-P